DEPARTMENT OF STATE

[Public Notice: 12849]

Notice of 2024 Department of State Sanctions Actions Pursuant to the Executive Order Regarding Blocking Property of Weapons of Mass Destruction Proliferators and Their Supporters

SUMMARY: The Department of State is publishing the names of one or more persons that were placed on the Department of Treasury's List of Specially Designated Nationals and Blocked Persons (SDN List) administered by the Office of Foreign Asset Control (OFAC) in 2024 based on the Department of State's determination, in consultation with other departments, as appropriate, that one or more applicable legal criteria of the Executive Order regarding blocking property of weapons of mass destruction proliferators and their supporters were satisfied. All property and interests in property subject to U.S. jurisdiction of these persons are blocked, and U.S. persons are generally prohibited from engaging in transactions with them.

DATES: This action was issued on December 16, 2024. See SUPPLEMENTARY INFORMATION section for applicable date(s) in 2024.

FOR FURTHER INFORMATION CONTACT: Office of Counterproliferation Initiatives, Bureau of Arms Control and Nonproliferation, Department of State, Washington, DC 20520, tel.: (202) 647 7594, email: ACN_Sanctions@state.gov.

SUPPLEMENTARY INFORMATION:

Electronic Availability

The SDN List and additional information concerning OFAC sanctions programs are available on OFAC's website (https://www.treasury.gov/ofac). The announcement for this action is available on the Department of State's website (https://2021-2025.state.gov/u-s-sanctions-on-entity-and-individuals-providing-procurement-support-to-the-dprks-unlawful-ballistic-missile-program/).

Notice of Department of State Actions

On December 16, 2024, the Department of State, in consultation with other departments, as appropriate, determined that the property and interests in property subject to U.S. jurisdiction of the following persons are blocked under the relevant sanctions authority listed below.

Individuals

1. KIM, Yon Hui, Shenyang, China; DOB 01 Dec 1979; nationality Korea, North; Gender Female; Secondary sanctions risk: North Korea Sanctions Regulations, sections 510.201 and 510.210; Transactions Prohibited For Persons Owned or Controlled By U.S. Financial Institutions: North Korea Sanctions Regulations section 510.214; Passport 836238034 (Korea, North) (individual) [NPWMD].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by the Democratic People's Republic of Korea, a foreign country of proliferation concern.

2. RIM, Ryong Nam, Shenyang, China; Pyongyang, Korea, North; DOB 05 Dec 1978; nationality Korea, North; Gender Male; Secondary sanctions risk: North Korea Sanctions Regulations, sections 510.201 and 510.210; Transactions Prohibited For Persons Owned or Controlled By U.S. Financial Institutions: North Korea Sanctions Regulations section 510.214; Passport 836238033 (Korea, North) (individual) [NPWMD].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by the Democratic People's Republic of Korea, a foreign country of proliferation concern.

Entity

1. SECOND ACADEMY OF NATURAL SCIENCES FOREIGN AFFAIRS BUREAU (a.k.a. KOREA KURYONGGANG TRADING CORPORATION; a.k.a. KOREA KUWOLSAN TRADING CORPORATION; a.k.a. KOREA RYENHAP 2 TRADING CORPORATION; a.k.a. KOREA TANGUN TRADING CORPORATION; a.k.a. RYUNG SENG TRADING CORPORATION; a.k.a. RYUNGSENG TRADING CORPORATION; a.k.a. RYUNGSONG TRADING CORPORATION), Pyongyang, Korea, North; Secondary sanctions risk: North Korea Sanctions Regulations, sections 510.201 and 510.210; Transactions Prohibited For Persons Owned or Controlled By U.S. Financial Institutions: North Korea Sanctions Regulations section 510.214; Target Type Government Entity [NPWMD].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by the Democratic People's Republic of Korea, a foreign country of proliferation concern.

Renee P. Sonderman,
Acting Deputy Assistant Secretary, Bureau of Arms Control and Nonproliferation, Department of State.

[FR Doc. 2025-19259 Filed 10-1-25; 8:45 am]

BILLING CODE 4710-27-P